DEPARTMENT OF THE INTERIOR

Bureau of Land Management

DEPARTMENT OF AGRICULTURE

Forest Service

[17XL LLIDI00000.L71220000.EO0000.LVTFD1700100 241A 4500116174]

Notice of Availability of Draft Environmental Impact Statement for the Proposed East Smoky Panel Mine Project at Smoky Canyon Mine, Caribou County, ID

AGENCY: Bureau of Land Management, Interior; Forest Service, USDA.

ACTION: Notice of availability.

SUMMARY: In accordance with the National Environmental Policy Act of 1969 (NEPA), as amended, the Bureau of Land Management (BLM) and the U.S. Department of Agriculture, Forest Service (USFS) Caribou-Targhee National Forest (CTNF), have prepared a Draft Environmental Impact Statement (EIS) for the proposed East Smoky Panel Mine Project (Project), and by this Notice announce the opening of the public comment period.

DATES: To ensure consideration, the Agencies must receive written comments on the East Smoky Panel Mine Project Draft EIS no later than 90 days after the Environmental Protection Agency publishes its notice of availability of the Draft EIS in the Federal Register. The BLM will announce any future public meetings and any other public involvement activities at least 15 days in advance through public notices, media news releases, and/or mailings.

ADDRESSES: You may submit comments related to the Project Draft EIS by any of the following methods:

• Website: https://go.usa.gov/xnYTG.

• Email: blm_id_espm_eis@blm.gov.

• Mail: East Smoky Panel Mine Draft EIS, c/o Stantec Consulting Services Inc., 3995 South 700 East, Suite 300, Salt Lake City, Utah 84107.

Please reference “East Smoky Panel Mine Draft EIS” on all correspondence. CD-ROM and print copies of the East Smoky Panel Mine Draft EIS are available in the BLM Pocatello Field Office at the following address: 4350 Cliffs Drive, Pocatello, ID 83204. In addition, an electronic copy of the Draft EIS is available online at:

• BLM Land Use Planning and NEPA Register: https://go.usa.gov/xnYTG

• Caribou-Targhee National Forest Current and Recent Projects: http://www.fs.usda.gov/projects/ctnf/landmanagement/projects.

FOR FURTHER INFORMATION CONTACT: Kyle Free, BLM Pocatello Field Office, 4350 Cliffs Drive, Pocatello, ID 83204; phone 208-478-6352; email: kfree@blm.gov; fax 208-478-6376. Persons who use a telecommunications device for the deaf (TDD) may call the Federal Relay Service (FRS) at 1-800-877-8339 to contact Mr. Free. The FRS is available 24 hours a day, 7 days a week, to leave a message or question for Mr. Free. You will receive a reply during normal business hours.

SUPPLEMENTARY INFORMATION: The BLM, as the Federal lease administrator, is the lead agency, and the USFS is the co-lead agency. The Idaho Department of Environmental Quality, Idaho Department of Lands, and Idaho Governor's Office of Energy and Mineral Resources are cooperating agencies. J.R. Simplot Company has submitted a proposed lease modification and Mine and Reclamation Plan (M&RP) for agency review for the East Smoky Panel leases (IDI-015259, IDI-26843, and IDI-012890) at the Smoky Canyon Phosphate Mine in Caribou County, Idaho. Existing Smoky Canyon mining and milling operations were authorized in 1982 by a mine plan approval issued by the BLM and Special Use Authorizations (SUAs) issued by the USFS for off-lease activities, supported by the Smoky Canyon Mine Final EIS and Record of Decision (ROD). Mining operations began in Panel A in 1984 and have continued ever since, with the mining of Panels A through G. The proposed East Smoky Panel Project Area is located approximately one-half mile directly east of Panel A and, in the northern portion, adjacent to Panel B. The BLM prepared a supplemental EIS for mining of Panels B and C, addressing selenium and endangered species issues, in 2002; a subsequent ROD approved the mining of Panels B and C. The BLM and USFS approved the mining of Panels F and G in 2008 and a subsequent Mine Plan modification in 2015.

The Proposed Action would consist of mining the East Smoky Panel as outlined in the Draft EIS. The Draft EIS fully evaluates Alternatives to the Proposed Action, including a No Action Alternative, and addresses issues identified during scoping.

The BLM and USFS will make separate but coordinated decisions related to the proposed Project. The BLM will either approve, approve with modifications, or deny the M&RP; and recommend whether to modify lease IDI-015259. In addition, the BLM will decide whether to approve a modification to the existing B-Panel Mine Plan. The BLM will base its decisions on public and agency input on the Draft EIS, the Final EIS, and any recommendations the USFS may have regarding surface management of leased National Forest System lands. The USFS will make recommendations to the BLM concerning surface management and mitigation on leased lands within the CTNF and will issue decisions on SUAs for off-lease activities. SUAs from the USFS would be necessary for any off-lease disturbances/structures located within the CTNF and associated with the Project. A Forest Plan amendment by the USFS would also be necessary as outlined in the Draft EIS.

On April 3, 2015, the Federal Register published a Notice of Intent to prepare this EIS (80 FR 18250), initiating a 30-day public scoping period for the Proposed Action during which the BLM accepted written comments. The scoping process identified concerns involving impacts to water resources and watersheds from potentially elevated levels of selenium; potential effects and/or cumulative effects of the Project regarding air quality, human health and safety, socioeconomics, wildlife, reclamation and financial assurance; and mitigation and monitoring of mine operations.

To facilitate understanding and comments on the Draft EIS, the BLM has planned public meetings for Afton, Wyoming, and Pocatello, Idaho. Meetings will be open-house style, with displays explaining the Project and a forum for commenting on the Project. The BLM will announce dates, times, and locations of the public scoping meetings in mailings and local media at least 15 days in advance.

Stakeholders, interested parties and members of the public should submit written and electronic comments regarding the Draft EIS no later than 90 days after the Environmental Protection Agency publishes its notice of availability of the Draft EIS in the Federal Register. To assist the BLM and the USFS in identifying issues and concerns related to this project, comments should be as specific as possible. The portion of the proposed project related to special use authorizations for off-lease activities are subject to the USFS objection process. Due to the need for a Forest Plan amendment, this proposed project is subject to the predecisional administrative review process pursuant to 36 CFR part 218 subparts A and B and 36 CFR part 219 subpart B. Only those who provide comment during this comment period or who have previously submitted specific written comments on the Proposed Action, either during scoping or other designated opportunity for public comment, will be eligible as objectors (36 CFR 218.5(a) and 219.53(a)). BLM appeal procedures found in 43 CFR part 4, subpart E apply to the portion of the Project related to the Federal mineral lease(s).

Before including your phone number, email address, or other personal identifying information in your comment, you should be aware that your entire comment—including your personal identifying information—may be made publicly available at any time. While you can ask us in your comment to withhold your personal identifying information from public review, we cannot guarantee that we will be able to do so.

Authority: 42 U.S.C. 4321 et seq.; 43 U.S.C. 1701; 40 CFR parts 1500 through 1508; 43 CFR part 4; 43 CFR part 3590.

Dated: July 16, 2018.
Peter J. Ditton,
Acting State Director, Bureau of Land Management, Idaho State Office.
Mel Bolling,
Forest Supervisor, Caribou-Targhee National Forest.

[FR Doc. 2018-21204 Filed 9-27-18; 8:45 am]

BILLING CODE 4310-GG-P